ENVIRONMENTAL PROTECTION AGENCY

[FRL-9612-1]

Proposed Agreement and Covenant Not To Sue for the Colville Post & Poles Superfund Site, Stevens County, WA

AGENCY: Environmental Protection Agency.

ACTION: Notice of proposed agreement; request for public comment.

SUMMARY: In accordance with 122(i) of the Comprehensive Environmental Response Compensation, and Liability Act (“CERCLA”), 42 U.S.C. 9622(i), notice is hereby given by the U.S. Environmental Protection Agency (“EPA”) of a proposed ability to pay administrative settlement agreement pursuant to Section 122(h) of CERCLA, 42 U.S.C. 9622(h). This settlement agreement is with Colville Post & Poles, Inc. and Eugene Spring (“Settling Parties”) to recover response costs that EPA incurred conducting a response action at the Colville Post & Poles, Inc. Site, near Colville, Washington. Under the terms of the settlement agreement, the Settling Parties agree to pay EPA $5,000 and all proceeds from the sale of the property at the Site, and to impose restrictions on the use of the property by executing and recording an environmental covenant. In exchange for this consideration, the proposed Agreement contains the United States covenant not to sue, subject to certain reservations set forth in the Agreement, provides protection from third-party law suits for contribution, and will, in accordance with the terms of the settlement agreement, release the Federal lien currently on the property.

DATES: Comments must be submitted by February 20, 2012. EPA and the Department of Justice will consider all comments received and may modify or withdraw the Agreement if comments received or any other information indicates that such action is appropriate.

ADDRESSES: The proposed agreement is available for public inspection at the U.S. Environmental Protection Agency, Region 10 Office, located at 1200 Sixth Avenue, in Seattle, Washington 98101. A copy of the proposed Agreement may be obtained from Carol Kennedy, Regional Hearing Clerk, U.S. Environmental Protection Agency, Region 10, 1200 Sixth Avenue, Mail Code ORC-158, Seattle, Washington 98101; (206) 553-0242. Comments should refer to the Colville Post & Poles Superfund Site, Stevens County, Washington, and should be addressed to Jennifer G. MacDonald, Assistant Regional Counsel, U.S. Environmental Protection Agency, Region 10, 1200 Sixth Avenue, Suite 900, Seattle, Washington 98101; fax: (206) 553-1762; email: MacDonald.Jennifer@epa.gov.

FOR FURTHER INFORMATION CONTACT: Jennifer G. MacDonald, Assistant Regional Counsel, U.S. Environmental Protection Agency, Region 10, 1200 Sixth Avenue, Suite 900, Seattle, Washington 98101; phone: (206) 553-8311.

Dated: December 16, 2011.
Daniel D. Opalski,
Director, Office of Environmental Cleanup, U.S. Environmental Protection Agency, Region 10.

[FR Doc. 2012-976 Filed 1-18-12; 8:45 am]

BILLING CODE 6560-50-P